DEPARTMENT OF THE TREASURY

Submission for OMB Review; Comment Request

July 26, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 4, 2001 to be assured of consideration.

Internal Revenue Service (IRS)

OMB Number: 1545-0121.

Form Number: IRS Form 1116.

Type of Review: Revision.

Title: Foreign Tax Credit (Individual, Estate, Trust, or Nonresident Alien Individual).

Description: Form 1116 is used by individuals (including nonresident aliens), estates or trusts who paid foreign income taxes on U.S. taxable income to compute the foreign tax credit. This information is used by the IRS to verify the foreign tax credit.

Respondents: Individuals or households.

Estimated Number of Respondents/Recordkeeper: 442,425.

Estimated Burden Hours Per Respondent/Recordkeeper:

Recordkeeping—2 hr., 43 min.

Learning about the law or the form—1 hr., 10 min.

Preparing the form—3 hr., 4 min.

Copying, assembling, and sending the form to the IRS—34 min.

Frequency of Response: Annually.

Estimated Total Reporting/Recordkeeping Burden: 2,862,104 hours.

OMB Number: 1545-0936.

Form Number: IRS Form 8453.

Type of Review: Extension.

Title: U.S. Individual Income Tax Declaration for an IRS e-file Return.

Description: This form will be used to secure taxpayers' signatures and declarations in conjunction with the Electronic Filing program. This form, together with the electronic transmission, will comprise the taxpayer's income tax return.

Respondents: Individuals or households.

Estimated Number of Respondents/Recordkeepers: 12,300,000.

Estimated Burden Hours Per Respondent/Recordkeeper: 15 minutes.

Frequency of Response: Annually.

Estimated Total Reporting/Recordkeeping Burden: 3,075,000 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Mary A. Able,
Departmental Reports Management Officer.

[FR Doc. 01-19244 Filed 8-1-01; 8:45 am]

BILLING CODE 4830-01-P